DEPARTMENT OF THE TREASURY

Internal Revenue Service

26 CFR Part 1

Exclusions From Gross Income of Foreign Corporations

CFR Correction

In Title 26 of the Code of Federal Regulations, Part 1 (§§ 1.851 to 1.907), revised as of April 1, 2009, on page 444, in § 1.883-0, under the heading § 1.883-1, remove paragraphs (g)(3)(i), (g)(3)(ii), (h)(3)(i), (h)(3)(ii), and (h)(3)(iii).

[FR Doc. 2010-7092 Filed 3-29-10; 8:45 am]

BILLING CODE 1505-01-D